Proclamation 9791 of September 28, 2018

National Breast Cancer Awareness Month, 2018

By the President of the United States of America

A Proclamation

During National Breast Cancer Awareness Month, we recognize the women and men who courageously fight to survive, detect, treat, prevent, and support survivors of this devastating disease. Our Nation vows to honor the loving memory of those lost to this disease, and we pray for their grieving families. We reaffirm our ongoing commitment to defeat breast cancer through education, early detection, and innovative research.

In the United States this year, more than 260,000 women and approximately 2,600 men will likely be diagnosed with breast cancer. The statistics are frightening and staggering, yet we are encouraged to know that survival rates have drastically improved in recent years due to increased awareness and innovative advancements in early detection and treatment. The First Lady and I encourage all Americans to be proactive in the crusade against this deadly disease. This includes seeking the advice of healthcare providers, who can better educate patients of the importance of getting appropriate cancer screening tests at the right time, knowing their family history and other risk factors, and making lifestyle changes that may reduce the possibility of breast cancer.

My Administration is committed to supporting our Nation's dedicated researchers in their diligent efforts to advance medical breakthroughs that will save and improve lives. Earlier this year, I signed into law Federal “Right to Try” legislation, which provides those diagnosed with a terminal illness expanded options for treatment that could save their lives. Cutting-edge developments in the fight against breast cancer include interventions and treatments that are more effective and less debilitating. Recently, a groundbreaking national study found that most women with an early-stage diagnosis of the most common type of breast cancer can safely forgo chemotherapy. Such research will continue to assist medical professionals in devising optimal recommendations for their patients and help Americans make informed healthcare choices.

American physicians, researchers, public health professionals, and advocates have made tremendous progress in the fight against breast cancer, which is evident by the decline in mortality rates from this disease nationwide. Each life is precious. For this reason, we continue to pursue greater understanding of this disease, support pioneering research, promote effective prevention strategies, and ensure broad access to healthcare screenings. Together, we can usher in a new era of hope in the fight against breast cancer and anticipate the victorious day when this disease no longer plagues our Nation.

NOW, THEREFORE, I, DONALD J. TRUMP, President of the United States of America, by virtue of the authority vested in me by the Constitution and the laws of the United States, do hereby proclaim October 2018 as National Breast Cancer Awareness Month. I encourage citizens, government agencies, private businesses, nonprofit organizations, the media, and other interested groups to increase awareness of how Americans can fight breast cancer. I also invite the Governors of the States and Territories and officials of other areas subject to the jurisdiction of the United States to join me in recognizing National Breast Cancer Awareness Month.

IN WITNESS WHEREOF, I have hereunto set my hand this twenty-eighth day of September, in the year of our Lord two thousand eighteen, and of the Independence of the United States of America the two hundred and forty-third.

[FR Doc. 2018-21811

Filed 10-3-18; 11:15 am]

Billing code 3295-F9-P